DEPARTMENT OF THE INTERIOR

National Park Service

Notice of Inventory Completion for Native American Human Remains and Associated Funerary Objects From Arkansas in the Possession of the Arkansas Archeological Survey, Fayetteville, AR

AGENCY: National Park Service.

ACTION: Notice.

Notice is hereby given in accordance with provisions of the Native American Graves Protection and Repatriation Act (NAGPRA), 43 CFR 10.9, of the completion of an inventory of human remains and associated funerary objects from Arkansas in the possession of the Arkansas Archeological Survey, Fayetteville, AR.

A detailed assessment of the human remains was made by Arkansas Archeological Survey professional staff in consultation with representatives of the Quapaw Tribe of Indians, Oklahoma.

During 1991-1997, human remains representing 39 individuals were recovered from Parkin State Park during excavations conducted by the Arkansas Archeological Survey in cooperation with the Quapaw Tribe of Indians, Oklahoma under a Memorandum of Agreement. No known individuals were identified. The 36 associated funerary objects include an Old Town red human head effigy vessel, Mississippian ceramics and sherds, mussel shells and fragments, unidentified animal bones and fragments, charred maize cobs, fossil and bone beads, a debitage flake, chert blade and scraper, marine shell fragments, a hemitite fragment, and a projectile point.

Based on French colonial records, the Quapaw were known to be the only tribe present in the St. Francis River valley area near the mouth of the Arkansas River c. 1700 A.D. Although no definite Quapaw villages have been identified in the St. Francis River valley where the Parkin site is located, the Quapaw tribe may have used that area as an important hunting territory. Oral history evidence presented by representatives of the Quapaw Tribe of Indians, Oklahoma indicates a migration from the north to their location near the mouth of the Arkansas River.

The Quapaw Tribe of Indians, Oklahoma has maintained a strong interest in the Parkin site. The Quapaw Tribe entered into an agreement with the State of Arkansas when the site was acquired for an archeological park to help coordinate research and development at the park.

Based on the above mentioned information, officials of the Arkansas Archeological Survey have determined that, pursuant to 43 CFR 10.2(d)(1), the human remains listed above represent the physical remains of 39 individuals of Native American ancestry. Officials of the Arkansas Archeological Survey have also determined that, pursuant to 43 CFR 10.2(d)(2), the 36 objects listed above are reasonably believed to have been placed with or near individual human remains at the time of death or later as part of the death rite or ceremony. Lastly, officials of the Arkansas Archeological Survey have determined that, pursuant to 43 CFR 10.2(e), there is a relationship of shared group identity which can be reasonably traced between these Native American human remains and associated funerary objects and the Quapaw Tribe of Indians, Oklahoma.

This notice has been sent to officials of the Quapaw Tribe of Indians, Oklahoma. Representatives of any other Indian tribe that believes itself to be culturally affiliated with these human remains and associated funerary objects should contact Paddy Murphy, Director, Historic Resources and Museum Services, Arkansas State Parks, One Capitol Mall, Little Rock, AR 72201; telephone: (501) 682-3603, before May 26, 2000. Repatriation of the human remains and associated funerary objects to the Quapaw Tribe of Indians, Oklahoma may begin after that date if no additional claimants come forward.

Dated: April 10, 2000.
Francis P. McManamon,
Departmental Consulting Archeologist, Manager, Archeology and Ethnography Program.

[FR Doc. 00-10316 Filed 4-25-00; 8:45 am]

BILLING CODE 4310-70-M